DEPARTMENT OF TRANSPORTATION

Federal Aviation Administration

14 CFR Part 73

[Docket No. FAA-2008-1261; Airspace Docket No. 06-ASO-18]

Proposed Amendment and Establishment of Restricted Areas and Other Special Use Airspace, Avon Park Air Force Range; FL

AGENCY: Federal Aviation Administration (FAA), DOT.

ACTION: Notice of proposed rulemaking (NPRM).

SUMMARY: This action proposes to restructure the special use airspace (SUA), consisting of restricted areas and military operations areas (MOA), at the Avon Park Air Force Range (APAFR), Florida. The proposed changes would provide additional restricted airspace needed for training in high altitude weapons releases and other hazardous activities, and would reconfigure the MOAs to contain nonhazardous flight operations. The changes would permit more realistic training in modern tactics to be conducted at the Range and enable more efficient use of the National Airspace System.

DATES: Comments must be received on or before March 30, 2009.

ADDRESSES: Send comments on this proposal to the U.S. Department of Transportation, Docket Operations, M-30, 1200 New Jersey Avenue, SE., West Building Ground Floor, Room W12-140, Washington, DC 20590-0001; telephone: (202) 366-9826. You must identify FAA Docket No. FAA-2008-1261 and Airspace Docket No. 06-ASO-18, at the beginning of your comments. You may also submit comments through the Internet at http://www.regulations.gov. Comments on environmental and land use aspects should be directed to: 23rd Wing, Det 1, OLA/CEVN, Avon Park Air Force Range Natural Resources Office, 29 South Blvd., Avon Park AFR FL 33825-9381 (Mr. Tod Zechiel; telephone: (863) 452-4119, ext. 328).

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Comments are also invited on the nonregulatory MOA portion of this proposal.

Communications should identify both docket numbers (FAA Docket No. FAA-2008-1261 and Airspace Docket No. 06-ASO-18) and be submitted in triplicate to the Docket Management System (see ADDRESSES section for address and phone number). You may also submit comments through the Internet at http://www.regulations.gov.

Commenters wishing the FAA to acknowledge receipt of their comments on this action must submit with those comments a self-addressed, stamped postcard on which the following statement is made: “Comments to FAA Docket No. FAA-2008-1261 and Airspace Docket No. 06-ASO-18.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/airports_airtraffic/air_traffic/publications/airspace_amendments/.

You may review the public docket containing the proposal, any comments received and any final disposition in person at the Dockets Office (see ADDRESSES section for address and phone number) between 9 a.m. and 5 p.m., Monday through Friday, except Federal holidays. An informal docket may also be examined during normal business hours at the office of the Operations Support Group, Eastern Service Center, Federal Aviation Administration, 1701 Columbia Ave., College Park, GA 30337.

Persons interested in being placed on a mailing list for future NPRMs should contact the FAA's Office of Rulemaking, (202) 267-9677, for a copy of Advisory Circular No. 11-2A, Notice of Proposed Rulemaking Distribution System, which describes the application procedure.

History

The special use airspace at the Avon Park Air Force Range includes restricted areas and MOAs. The restricted areas support a variety of hazardous activities including both ground-based and air-delivered weapons employment. Restricted areas are regulatory airspace areas that are designated under Title 14, Code of Federal Regulations (14 CFR) part 73 rulemaking procedures. Restricted areas are designated to contain activities that may present a hazard to aircraft. No person may operate an aircraft within a restricted area without the advance permission of the using or controlling agency.

The APAFR MOAs are used primarily as holding and maneuvering areas for aircraft operating in the restricted areas. MOAs are nonregulatory airspace areas that are established administratively and published in the National Flight Data Digest (NFDD). MOAs are established to separate or segregate non-hazardous military flight activities from aircraft operating in accordance with instrument flight rules (IFR), and to advise pilots flying under visual flight rules (VFR) where these activities are conducted. IFR aircraft may be routed through an active MOA only when air traffic control can provide approved separation from the MOA activity. VFR pilots are not restricted from flying in an active MOA, but are advised to exercise caution while doing so. Normally, MOA proposals are not published in a NPRM but, instead, are advertised for public comment through a nonrule circular distributed by the FAA Service Center office to aviation interests in the affected area. When a nonrulemaking action is an integral part of a rulemaking action, FAA procedures allow for the nonrulemaking proposal to be included in the NPRM. Because the MOAs are an integral part of the Avon Park Range, the proposed changes are being described in this NPRM. Comments on the proposed MOA changes may also be submitted as indicated above in the “Comments Invited” section of this NPRM.

The U.S. Air Force requested modifications to the APAFR airspace to better support essential training requirements. Driving the request are the technological advances that have been made in aircraft targeting systems. These advances allow accurate weapons delivery from higher altitudes and greater distances from the target resulting in the requirement for additional restricted airspace at the APAFR. The proposed restricted airspace, if approved, would accommodate realistic training in targeting pod employment, lights-out night vision goggles training, laser operations and high/ultra-high altitude weapons release.

Currently the APAFR supports training in low to medium altitude tactics well, but the existing Ranges' restricted area ceiling of flight level (FL) 180 is inadequate for training at high and ultra-high altitudes. The APAFR's airspace vertical structure has not kept pace with the requirements of modern combat tactics and today's significantly increased fighter and bomber aircraft capabilities. In general, combat pilots require higher altitudes and greater stand-off distances from the target in order to reduce their exposure to enemy ground threats. The proposed changes would permit training in various tactics that are currently being used in combat.

All airspace changes proposed would be contained within the existing outer lateral boundary of the APAFR restricted and MOA airspace. The vertical limits of the airspace would be expanded upward to higher altitudes than are currently published. Additionally, the existing altitude floors would remain unchanged.

The APAFR is now, and will continue to be, designated as “joint-use” airspace. This means that, during periods when the area, or parts of the area, are not needed by the using agency for its designated purposes, the airspace will be returned to the controlling agency for access by other National Airspace System users. The Miami Air Route Traffic Control Center (ARTCC) is the controlling agency for the APAFR airspace area.

Proposed MOA Changes

The FAA is proposing changes that would subdivide the Lake Placid MOA, cancel the Avon North and South MOAs, establish the Avon East High MOA, amend some MOA times of use, amend some MOA altitude ceilings, and change the name of the using agency for all APAFR MOAs. Specifically, the Lake Placid MOA would be subdivided into three parts: Lake Placid North, Lake Placid West and Lake Placid East. The purpose of subdividing the Lake Placid MOA is to enable the release to the Miami ARTCC of those subdivisions that are not in use, thus allowing more efficient traffic flows for nonparticipating aircraft. The subdivisions will also facilitate coordination between the user and Miami ARTCC. Additionally, the boundary along the east side of the new Lake Placid North and West MOAs would be realigned to eliminate sections of the MOA that overlap into restricted airspace. The times of use for the reconfigured Lake Placid MOAs would include a provision to allow for activation of the airspace at “other times by NOTAM.” The published altitudes for the Lake Placid MOAs would remain 7,000 feet mean sea level (MSL) to but not including FL 180.

The existing Avon North and Avon South MOAs, which both extend upward from 5,000 feet MSL to but not including FL 180, would be cancelled and the airspace converted into Restricted Areas R-2901M and R-2901N, respectively. A new MOA, designated Avon East High, would be established directly above the existing Avon East MOA. The Avon East MOA currently extends from 500 feet above ground level (AGL) up to but not including 14,000 feet MSL. The Avon East High MOA would create new MOA airspace that extends above the Avon East MOA from 14,000 feet MSL to but not including FL 180.

The times of use for the Basinger and Marian MOAs would be changed to add a provision to allow for activation of the airspace at “other times by NOTAM.” This change would align the Basinger and Marian MOA times of use with the other APAFR airspace areas.

A minor change to the altitudes of some MOAs would be made by inserting the words “to but not including” before the upper altitude limit (ceiling) of the areas. This change will prevent altitude conflict with overlying MOA airspace areas.

Finally, the name of the using agency for all APAFR MOAs would be changed to read “U.S. Air Force, Commander, 23rd Wing, Det 1, MacDill AFB, FL,” to reflect the current organizational title. The proposed MOA changes are as follows:

Avon East MOA, FL [Amended]

By removing the current using agency and substituting the following:

Using agency. U.S. Air Force, Commander, 23rd Wing, Det 1, MacDill AFB, FL.

Avon East High MOA, FL [New]

Boundaries. Beginning at lat. 27°44′46″ N., long. 81°11′39″ W.; to lat. 27°44′46″ N., long. 81°08′29″ W.; to lat. 27°34′01″ N., long. 81°04′29″ W.; to lat. 27°32′31″ N., long. 81°07′29″ W.; to lat. 27°35′01″ N., long. 81°08′59″ W.; to the point of beginning.

Altitudes. 14,000 feet to but not including FL 180.

Times of use. Intermittent, normally daylight hours, Monday-Friday; other times by NOTAM.

Controlling agency. FAA, Miami ARTCC.

Using agency. U.S. Air Force, Commander, 23rd Wing, Det 1, MacDill AFB, FL.

Basinger MOA, FL [Amended]

By removing the current times of use and using agency and substituting the following:

Times of use. Intermittent, normally daylight hours, Monday-Friday; occasionally Saturday and Sunday; other times by NOTAM.

Using agency. U.S. Air Force, Commander, 23rd Wing, Det 1, MacDill AFB, FL.

Lake Placid North MOA, FL [New]

Boundaries. Beginning at lat. 27°53′31″ N., long. 81°51′59″ W.; to lat. 28°00′01″ N., long. 81°20′59″ W.; to lat. 27°55′01″ N., long. 81°25′19″ W.; to lat. 27°42′49″ N., long. 81°36′16″ W.; to lat. 27°35′44″ N., long. 81°42′14″ W.; to the point of beginning.

Altitudes. 7,000 feet MSL to but not including FL 180.

Times of use. Intermittent, normally daylight hours, Monday-Friday; occasionally on Saturday and Sunday; other times by NOTAM.

Controlling agency. FAA, Miami ARTCC.

Using agency. U.S. Air Force, Commander, 23rd Wing, Det 1, MacDill AFB, FL.

Lake Placid West MOA, FL [New]

Boundaries. Beginning at lat. 27°35′44″ N., long. 81°42′14″ W.; to lat. 27°42′49″ N., long. 81°36′16″ W.; to lat. 27°21′30″ N., long. 81°28′00″ W.; to lat. 27°04′01″ N., long. 81°16′59″ W.; to lat. 27°04′01″ N., long. 81°24′59″ W.; to the point of beginning.

Altitudes. 7,000 feet MSL to but not including FL 180.

Times of use. Intermittent, normally daylight hours, Monday-Friday; occasionally on Saturday and Sunday; other times by NOTAM.

Controlling agency. FAA, Miami ARTCC.

Using agency. U.S. Air Force, Commander, 23rd Wing, Det 1, MacDill AFB, FL.

Lake Placid East MOA, FL [New]

Boundaries. Beginning at lat. 27°42′49″ N., long. 81°36′16″ W.; to lat. 27°55′01″ N., long. 81°25′19″ W.; to lat. 27°42′01″ N., long. 81°25′19″ W.; to lat. 27°32′33″ N., long. 81°21′39″ W.; to lat. 27°30′46″ N., long. 81°17′49″ W.; to lat. 27°24′46″ N., long. 81°10′59″ W.; to lat. 27°15′01″ N., long. 81°04′59″ W.; to lat. 27°04′01″ N., long. 81°16′59″ W.; to lat. 27°21′30″ N., long. 81°28′00″ W.; to the point of beginning.

Altitudes. 7,000 feet MSL to but not including FL 180.

Times of use. Intermittent, normally daylight hours, Monday-Friday; occasionally on Saturday and Sunday; other times by NOTAM.

Controlling agency. FAA, Miami ARTCC.

Using agency. U.S. Air Force, Commander, 23rd Wing, Det 1, MacDill AFB, FL

Marian MOA, FL [Amended]

By removing the times of use and current using agency and substituting the following:

Times of use. Intermittent, normally daylight hours, Monday-Friday; occasionally Saturday and Sunday; other times by NOTAM.

Using agency. U.S. Air Force, Commander, 23rd Wing, Det 1, MacDill AFB, FL

Restricted Area Proposal

The FAA is proposing an amendment to 14 CFR part 73 to expand the restricted airspace at the APAFR to permit training in real-world tactics during combat. The current ceiling of restricted airspace at the APAFR is FL 180, thus limiting training in various high-altitude offensive tactics that are essential for combat readiness. This proposal would add new restricted area subdivisions to raise the ceiling of restricted airspace at the Range to a maximum of FL 400. The current restricted area floors would remain unchanged. As discussed above, the Avon North and Avon South MOAs would be cancelled and the airspace converted to Restricted Areas R-2901M and R-2901N, respectively. This would add restricted airspace up to but not including 14,000 feet MSL in those areas. The lateral boundaries of R-2901B would be expanded so that the area overlies all APAFR restricted airspace. In addition, the ceiling of R-2901B would be changed to read “to but not including FL 180.” In order to provide the higher restricted area airspace needed for training; three new restricted areas (R-2901J, R-2901K and R-2901L) would be designated above R-2901B. R-2901J would directly overlie R-2901B and would extend from FL 180 up to but not including FL 230. R-2901K would overlie R-2901J and would extend from FL 230 up to but not including FL 310. R-2901L would overlie R-2901K and would extend from FL 310 up to and including FL 400. This structure of restricted area subdivisions would allow the airspace to be activated in segments, as needed, up to FL 400. In addition, restricted area segments when not required for the mission would be released to Miami ARTCC for access by nonparticipating aircraft.

Finally, the name of the using agency for all APAFR restricted areas would be changed to read “U.S. Air Force, Commander, 23rd Wing, Det 1, MacDill AFB, FL,” to reflect the current organizational title.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in SubtitileVII, Part A, Subpart I, Section 40103. Under that section, the FAA is charged with prescribing regulations to assign the use of the airspace necessary to ensure the safety of aircraft and the efficient use of airspace. This regulation is within the scope of that authority as it will restructure the SUA at the APAFR, Florida.

Environmental Review

This proposal will be subjected to an environmental analysis in accordance with FAA Order 1050.1E, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.29 (Amended)

2. § 73.29 is amended as follows:

* * * * *

R-2901A Avon Park, FL [Amended]

By removing the current designated altitudes and using agency and substituting the following:

Designated altitudes. Surface to but not including 14,000 feet MSL.

Using agency. U.S. Air Force, Commander, 23rd Wing, Det 1, MacDill AFB, FL.

* * * * *

R-2901B Avon Park, FL [Revised]

Boundaries. Beginning at lat. 28°00′01″ N., long. 81°20′59″ W.; to lat. 28°00′01″ N., long. 81°13′59″ W.; to lat. 27°44′46″ N., long. 81°13′59″ W.; to lat. 27°44′46″ N., long. 81°11′39″ W.; to lat. 27°35′01″ N., long. 81°08′59″ W.; to lat. 27°21′01″ N., long. 80°59′59″ W.; to lat. 27°16′46″ N., long. 81°05′59″ W.; to lat. 27°24′46″ N., long. 81°10′59″ W.; to lat. 27°30′46″ N., long. 81°17′49″ W.; to lat. 27°32′33″ N., long. 81°21′39″ W.; to lat. 27°42′01″ N., long. 81°25′19″ W.; to lat. 27°55′01″ N., long. 81°25′19″ W.; to the point of beginning.

Designated altitudes. 14,000 feet MSL to but not including FL 180.

Time of designation. Intermittent, 0600-2400, Monday-Friday; 0800-1800, Saturday-Sunday; other times by NOTAM 6 hours in advance.

Controlling agency. FAA, Miami ARTCC.

Using agency. U.S. Air Force, Commander, 23rd Wing, Det 1, MacDill AFB, FL.

* * * * *

R-2901C Avon Park, FL [Amended]

By removing the current designated altitudes and using agency and substituting the following:

Designated altitudes. Surface to but not including 14,000 feet MSL.

Using agency. U.S. Air Force, Commander, 23rd Wing, Det 1, MacDill AFB, FL.

* * * * *

R-2901D Avon Park, FL [Amended]

By removing the current designated altitudes and using agency and substituting the following:

Designated altitudes. 500 feet MSL to but not including 4,000 feet MSL east of long. 81°21′00″ W.; 1,000 feet AGL to but not including 4,000 feet MSL west of long. 81°21′00″ W.

Using agency. U.S. Air Force, Commander, 23rd Wing, Det 1, MacDill AFB, FL.

* * * * *

R-2901E Avon Park, FL [Amended]

By removing the current designated altitudes and using agency and substituting the following:

Designated altitudes. 1,000 feet MSL to but not including 4,000 feet MSL.

Using agency. U.S. Air Force, Commander, 23rd Wing, Det 1, MacDill AFB, FL.

* * * * *

R-2901F Avon Park, FL [Amended]

By removing the current designated altitudes and substituting the following:

Designated altitudes. 4,000 feet MSL to but not including 5,000 feet MSL.

Using agency. U.S. Air Force, Commander, 23rd Wing, Det 1, MacDill AFB, FL.

* * * * *

R-2901G Avon Park, FL [Amended]

By removing the current designated altitudes and using agency and substituting the following:

Designated altitudes. Surface to but not including 5,000 feet MSL.

Using agency. U.S. Air Force, Commander, 23rd Wing, Det 1, MacDill AFB, FL.

* * * * *

R-2901H Avon Park, FL [Amended]

By removing the current designated altitudes and using agency and substituting the following:

Designated altitudes. 1,000 feet MSL to but not including 4,000 feet MSL.

Using agency. U.S. Air Force, Commander, 23rd Wing, Det 1, MacDill AFB, FL.

* * * * *

R-2901I Avon Park, FL [Amended]

By removing the current designated altitudes and using agency and substituting the following:

Designated altitudes. 1,500 feet MSL to but not including 4,000 feet MSL

Using agency. U.S. Air Force, Commander, 23rd Wing, Det 1, MacDill AFB, FL.

* * * * *

R-2901J Avon Park, FL [New]

Boundaries. Beginning at lat. 28°00′01″ N., long. 81°20′59″ W.; to lat. 28°00′01″ N., long. 81°13′59″ W.; to lat. 27°44′46″ N., long. 81°13′59″ W.; to lat. 27°44′46″ N., long. 81°11′39″ W.; to lat. 27°35′01″ N., long. 81°08′59″ W.; to lat. 27°21′01″ N., long. 80°59′59″ W.; to lat. 27°16′46″ N., long. 81°05′59″ W.; to lat. 27°24′46″ N., long. 81°10′59″ W.; to lat. 27°30′46″ N., long. 81°17′49″ W.; to lat. 27°32′33″ N., long. 81°21′39″ W.; to lat. 27°42′01″ N., long. 81°25′19″ W.; to lat. 27°55′01″ N., long. 81°25′19″ W.; to the point of beginning.

Designated altitudes. FL 180 to but not including FL 230.

Time of designation. Intermittent, 0600-2400, Monday-Friday; 0800-1800, Saturday-Sunday; other times by NOTAM 6 hours in advance.

Controlling agency. FAA, Miami ARTCC.

Using agency. U.S. Air Force, Commander, 23rd Wing, Det 1, MacDill AFB, FL.

* * * * *

R-2901K Avon Park, FL [New]

Boundaries. Beginning at lat. 28°00′01″ N., long. 81°20′59″ W.; to lat. 28°00′01″ N., long. 81°13′59″ W.; to lat. 27°44′46″ N., long. 81°13′59″ W.; to lat. 27°44′46″ N., long. 81°11′39″ W.; to lat. 27°35′01″ N., long. 81°08′59″ W.; to lat. 27°21′01″ N., long. 80°59′59″ W.; to lat. 27°16′46″ N., long. 81°05′59″ W.; to lat. 27°24′46″ N., long. 81°10′59″ W.; to lat. 27°30′46″ N., long. 81°17′49″ W.; to lat. 27°32′33″ N., long. 81°21′39″ W.; to lat. 27°42′01″ N., long. 81°25′19″ W.; to lat. 27°55′01″ N., long. 81°25′19″ W.; to the point of beginning.

Designated altitudes. FL 230 to but not including FL 310.

Time of designation. Intermittent, 0600-2400, Monday-Friday; 0800-1800, Saturday-Sunday; other times by NOTAM 6 hours in advance.

Controlling agency. FAA, Miami ARTCC.

Using agency. U.S. Air Force, Commander, 23rd Wing, Det 1, MacDill AFB, FL.

* * * * *

R-2901L Avon Park, FL [New]

Boundaries. Beginning at lat. 28°00′01″ N., long. 81°20′59″ W.; to lat. 28°00′01″ N., long. 81°13′59″ W.; to lat. 27°44′46″ N., long. 81°13′59″ W.; to lat. 27°44′46″ N., long. 81°11′39″ W.; to lat. 27°35′01″ N., long. 81°08′59″ W.; to lat. 27°21′01″ N., long. 80°59′59″ W.; to lat. 27°16′46″ N., long. 81°05′59″ W.; to lat. 27°24′46″ N., long. 81°10′59″ W.; to lat. 27°30′46″ N., long. 81°17′49″ W.; to lat. 27°32′33″ N., long. 81°21′39″ W.; to lat. 27°42′01″ N., long. 81°25′19″ W.; to lat. 27°55′01″ N., long. 81°25′19″ W.; to the point of beginning.

Designated altitudes. FL 310 to FL 400.

Time of designation. Intermittent, 0600-2400, Monday-Friday; 0800-1800, Saturday-Sunday; other times by NOTAM 6 hours in advance.

Controlling agency. FAA, Miami ARTCC.

Using agency. U.S. Air Force, Commander, 23rd Wing, Det 1, MacDill AFB, FL.

* * * * *

R-2901M Avon Park, FL [New]

Boundaries. Beginning at lat. 28°00′01″ N., long. 81°20′59″ W.; to lat. 28°00′01″ N., long. 81°13′59″ W.; to lat. 27°48′31″ N., long. 81°13′59″ W.; thence west along Florida State Routes 60 and 630 to lat. 27°46′01″ N., long. 81°25′19″ W.; to lat. 27°55′01″ N., long. 81°25′19″ W.; to the point of beginning.

Designated altitudes. 4,000 feet MSL to but not including 14,000 feet MSL.

Time of designation. Intermittent, 0600-2400, Monday-Friday; 0800-1800, Saturday-Sunday; other times by NOTAM 6 hours in advance.

Controlling agency. FAA, Miami ARTCC.

Using agency. U.S. Air Force, Commander, 23rd Wing, Det 1, MacDill AFB, FL.

* * * * *

R-2901N Avon Park, FL [New]

Boundaries. Beginning at lat. 27°32′33″ N., long. 81°21′39″ W.; to lat. 27°32′37″ N., long. 81°16′46″ W.; to lat. 27°29′01″ N., long. 81°13′29″ W.; to lat. 27°32′31″ N., long. 81°07′29″ W.; to lat. 27°29′31″ N., long. 81°05′29″ W.; to lat. 27°21′01″ N., long. 80°59′59″ W.; to lat. 27°16′46″ N., long. 81°05′59″ W.; to lat. 27°24′46″ N., long. 81°10′59″ W.; to lat. 27°30′46″ N., long. 81°17′49″ W.; to the point of beginning.

Designated altitudes. 5,000 feet MSL to but not including 14,000 feet MSL north of a line from lat. 27°24′46″ N., long. 81°10′59″ W. to lat. 27°29′31″ N., long. 81°05′29″ W. 4,000 feet MSL to but not including 14,000 feet MSL south of that line.

Time of designation. Intermittent, 0600-2400, Monday-Friday; 0800-1800, Saturday-Sunday; other times by NOTAM 6 hours in advance.

Controlling agency. FAA, Miami ARTCC.

Using agency. U.S. Air Force, Commander, 23rd Wing, Det 1, MacDill AFB, FL.

* * * * *

Issued in Washington, DC, on January 16, 2009.
Edith V. Parish,
Manager, Airspace and Rules Group.

[FR Doc. E9-2980 Filed 2-11-09; 8:45 am]

BILLING CODE 4910-13-P